NATIONAL ARCHIVES AND RECORDS ADMINISTRATION

[NARA-2020-027]

Agency Information Collection Activities: Proposed Collection; Comment Request

AGENCY: National Archives and Records Administration (NARA).

ACTION: Notice.

SUMMARY: We are planning to request that the Office of Management and Budget (OMB) renew its approval for us to engage in the following information collection consisting of National Archives Trust Fund (NATF) order forms for genealogical research in the National Archives. The NATF forms included in this information collection are: NATF 84, National Archives Order for Copies of Land Entry Files; NATF 85, National Archives Order for Copies of Pension or Bounty Land Warrant Applications; and NATF 86, National Archives Order for Copies of Military Service Records. We invite you to comment on the proposed information collection.

DATES: We must receive comments in writing on or before May 19, 2020.

ADDRESSES: Comments should be sent by email to tamee.fechhelm@nara.gov, by mail to Paperwork Reduction Act Comments (MP), Room 4100; National Archives and Records Administration, 8601 Adelphi Rd., College Park, MD 20740-6001, or by fax to 301.837.0319.

FOR FURTHER INFORMATION CONTACT: Contact Tamee Fechhelm by phone at 301.837.1694 or by email at tamee.fechhelm@nara.gov with requests for additional information or copies of the proposed information collection and supporting statement.

SUPPLEMENTARY INFORMATION: Pursuant to the Paperwork Reduction Act of 1995 (Pub. L. 104-13), we invite the public and other Federal agencies to comment on proposed information collections. The comments and suggestions should address one or more of the following points: (a) Whether the proposed information collections are necessary for us to properly performance our functions; (b) the accuracy of our estimate of the burden of the proposed information collections; (c) ways to enhance the quality, utility, and clarity of the information to be collected; (d) ways to minimize the burden of the information collection on respondents, including through information technology; and (e) whether small businesses are affected by these collections. The comments you submit will be summarized and included in our request that OMB renew their approval of this information collection. All comments will become a matter of public record. In this notice, we are soliciting comments concerning the following information collection:

Title: Order Forms for Genealogical Research in the National Archives.

OMB number: 3095-0027.

Agency form numbers: NATF Forms 84, 85, and 86.

Type of review: Regular.

Affected public: Individuals or households.

Estimated number of respondents: 7,139.

Estimated time per response: 10 minutes.

Frequency of response: On occasion.

Estimated total annual burden hours: 1,190.

Abstract: We need to obtain specific information from researchers who wish to request copies of these records, in order to search for the specific records they seek and to handle their order and payment for copies of the records. We use these standardized forms as the means of collecting the needed information so that we can handle the volume of requests we receive for these records in a timely fashion. Researchers provide credit card information to authorize billing or request expedited mailing of the copies. They may use paper or electronic versions of the forms, or may fill them out and order online through our Order Online! service at http://www.archives.gov/research_room/obtain_copies/military_and_genealogy_order_forms.html.

Swarnali Haldar,
Executive for Information Services/CIO.

[FR Doc. 2020-05824 Filed 3-19-20; 8:45 am]

BILLING CODE 7515-01-P